DEPARTMENT OF AGRICULTURE

Agricultural Research Service

Solicitation of Nominations

Correction

In notice document 08-27724 appearing on page 70613 in the issue of Friday, November 21, 2008, make the following correction:

In the first column, the subject heading should read as set forth above.

[FR Doc. E8-27724 Filed 12-4-08; 8:45 am]

BILLING CODE 1505-01-D